DEPARTMENT OF DEFENSE

Office of the Secretary

Charter Renewal of Department of Defense Federal Advisory Committees—Defense Advisory Committee on Military Personnel Testing

AGENCY: Department of Defense (DoD).

ACTION: Charter renewal of Federal Advisory Committee.

SUMMARY: The DoD is publishing this notice to announce that it is renewing the Defense Advisory Committee on Military Personnel Testing (DAC-MPT).

FOR FURTHER INFORMATION CONTACT: Jim Freeman, DoD Advisory Committee Management Officer, 703-692-5952.

SUPPLEMENTARY INFORMATION: The DAC-MPT is being renewed in accordance with the Federal Advisory Committee Act (FACA) (5 U.S.C., App.) and 41 CFR 102-3.50(d). The charter and contact information for the DAC-MPT's Designated Federal Officer (DFO) are found at https://www.facadatabase.gov/FACA/apex/FACAPublicAgencyNavigation.

The DAC-MPT provides the Secretary of Defense and Deputy Secretary of Defense independent advice and recommendations on matters and policies related to the military personnel testing for selection and classification. The DAC-MPT provided advice on issues related to the research, development, implementation, and maintenance of enlisted and officer accession tests and career exploration programs. Technical issues addressed include, but are not limited to, processes and policies related to administration and security of testing and theoretical development of constructs, measurement precision, validity, reliability, equating, efficiency, fairness, and other operational and policy considerations.

The DAC-MPT shall consist of no more than seven members, appointed in accordance with DoD policy and procedures and who are eminent authorities in the fields of educational and psychological testing and career development. Members must have expertise in the following, or similar areas, psychometrics, test development, statistical measurement, big-data analytics, industrial/organization psychology, selection and classification, educational measurement, career development and counseling, and diversity and inclusion.

The appointment of DAC-MPT members shall be approved by the DoD Appointing Authority, for a term of service of one-to-four years, with annual renewals, in accordance with DoD policy and procedures. No member, unless approved by the DoD Appointing Authority, may serve more than two consecutive terms of service on the DAC-MPT, to include its subcommittees, or serve on more than two DoD Federal advisory committees at one time.

DAC-MPT members who are not full-time or permanent part-time Federal civilian officers or employees, or active duty members of the Uniformed Services, shall be appointed as experts or consultants pursuant to 5 U.S.C. 3109 to serve as special government employee (SGE) members.

DAC-MPT members who are full-time or permanent part-time Federal civilian officers or employees, or active duty members of the Uniformed Services, shall be appointed pursuant to 41 CFR 102-3.130(a) to serve as regular government employee (RGE) members.

The DoD Appointing Authorities shall appoint the DAC-MPT's leadership from among the membership previously approved to serve on the DAC-MPT in accordance with DoD policy and procedures, for a term of service of one-to-two years, with annual renewal, which shall not exceed the member's approved DAC-MPT appointment.

All DAC-MPT members are appointed to exercise their own best judgment on behalf of the DoD, without representing any particular points of view, and to discuss and deliberate in a manner that is free from conflicts of interest. With the exception of reimbursement of official DAC-MPT-related travel and per diem, DAC-MPT members serve without compensation.

The public or interested organizations may submit written statements to the DAC-MPT membership about the DAC-MPT's mission and functions. Written statements may be submitted at any time or in response to the stated agenda of planned meeting of the DAC-MPT. All written statements shall be submitted to the DFO for the DAC-MPT, and this individual will ensure that the written statements are provided to the membership for their consideration.

Dated: April 19, 2022.
Aaron T. Siegel,
Alternate OSD Federal Register Liaison Officer, Department of Defense.

[FR Doc. 2022-08638 Filed 4-21-22; 8:45 am]

BILLING CODE 5001-06-P